DEPARTMENT OF HEALTH AND HUMAN SERVICES

Food and Drug Administration

Food Advisory Committee; Notice of Meeting

AGENCY: Food and Drug Administration, HHS.

ACTION: Notice.

This notice announces a forthcoming meeting of a public advisory committee of the Food and Drug Administration (FDA). The meeting will be open to the public.

Name of Committee: Food Advisory Committee.

General Function of the Committee: To provide advice and recommendations to the agency on FDA's regulatory issues.

Date and Time: The meeting will be held on July 13 and 14, 2005, from 8:30 a.m. to 5 p.m. and on July 15, 2005, from 8:30 a.m. to 12 noon.

Location: Greenbelt Marriott Hotel, 6400 Ivy Lane Grand Ballroom, Greenbelt, MD.

Contact Person: Marcia L. Moore, Center for Food Safety and Applied Nutrition, Food and Drug Administration, 5100 Paint Branch Pkwy., College Park, MD 20740, 301-436-2397, or FDA Advisory Committee Information Line, 1-800-741-8138 (301-443-0572 in the Washington, DC area), code 3014510564. Please call the Information Line for up-to-date information on this meeting.

Agenda: The Food Advisory Committee is being asked to evaluate the Center for Food Safety and Applied Nutrition Threshold Working Group draft report “Approaches to Establish Thresholds for Major Food Allergens and Gluten.” On July 13, 2005, the committee will discuss the draft report's approaches for food allergen thresholds. On July 14, 2005, the committee will discuss the draft report's approaches for gluten thresholds. On July 15, 2005, based on the charge and questions from FDA, the committee will determine whether the report is scientifically sound in its analyses and approaches and adequately considers available relevant data on allergens and gluten.

Procedure: Interested persons may present data, information, or views, orally or in writing, on issues pending before the committee. Written submissions may be made to the contact person by July 8, 2005. Oral presentations from the public will be scheduled between approximately 2 p.m. and 3 p.m. on July 13 and 14, 2005. Time allotted for each presentation may be limited. Those desiring to make formal oral presentations should notify the contact person before July 8, 2005, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Marcia Moore at least 7 days in advance of the meeting.

Notice of this meeting is given under the Federal Advisory Committee Act (5 U.S.C. app. 2).

Dated: May 16, 2005.
Sheila Dearybury Walcoff,
Associate Commissioner for External Relations.

[FR Doc. 05-10251 Filed 5-20-05; 8:45 am]

BILLING CODE 4160-01-S